DEPARTMENT OF AGRICULTURE

Agricultural Marketing Service

[Docket No. TB-02-06]

Burley Tobacco Advisory Committee; Open Meeting

AGENCY: Agricultural Marketing Service, USDA.

ACTION: Notice of advisory committee meeting.

SUMMARY: In accordance with the Federal Advisory Committee Act (5 U.S.C. App.) announcement is made of a forthcoming meeting of the Burley Tobacco Advisory Committee.

DATES: May 23, 2002, 9 a.m.

ADDRESSES: The meeting will be held at the Campbell House Inn, South Colonial Hall, 1375 Harrodsburg Road, Lexington, Kentucky 40504.

FOR FURTHER INFORMATION CONTACT: John P. Duncan III, Deputy Administrator, Tobacco Programs, AMS, USDA, STOP 0280, 1400 Independence Avenue, SW, Washington, DC 20250-0280, telephone number (202) 205-0567 or fax (202) 205-0235.

SUPPLEMENTARY INFORMATION: The purpose of the meeting is to discuss the implementation of mandatory grading, establish alternate grading schedules, and discuss other related issues for the 2002-2003 burley tobacco marketing season.

The meeting is open to the public. Persons, other than members, who wish to address the Committee at the meeting should contact John P. Duncan III, Deputy Administrator, Tobacco Programs, AMS, USDA, STOP 0280, 1400 Independence Avenue, SW., Washington, DC 20250-0280, prior to the meeting. Written statements may be submitted to the Committee before, at or after the meeting. If you need any accommodations to participate in the meeting, please contact the Tobacco Programs at (202) 205-0567 by May 17, 2002, and inform us of your needs.

Dated: May 2, 2002.
Barry L. Carpenter,
Acting Administrator, Agricultural Marketing Service.

[FR Doc. 02-11458 Filed 5-7-02; 8:45 am]

BILLING CODE 3410-02-P